CONSUMER PRODUCT SAFETY COMMISSION

16 CFR Part 1201

[CPSC Docket No. CPSC-2012-0049]

Safety Standard for Architectural Glazing Materials

AGENCY: Consumer Product Safety Commission.

ACTION: Final rule.

SUMMARY: The Consumer Product Safety Commission (“CPSC” or “Commission”) amends the Safety Standard for Architectural Glazing Materials to replace the testing procedures for glazing materials in certain architectural products with the testing procedures contained in the voluntary standard ANSI Z97.1-2015, American National Standard for Safety Glazing Materials Used in Buildings—Safety Performance Specifications and Methods of Test.

DATES: The rule is effective on April 22, 2016. The incorporation by reference of the publication listed in this rule is approved by the Director of the Federal Register as of April 22, 2016.

FOR FURTHER INFORMATION CONTACT: Brian Baker, Project Manager, Division of Mechanical Engineering, Directorate for Laboratory Sciences, Office of Hazard Identification and Reduction, Consumer Product Safety Commission, 5 Research Place, Rockville, MD 20850; telephone: 301-987-2289; bbaker@cpsc.gov.

SUPPLEMENTARY INFORMATION:

I. Background

A. Safety Standard for Architectural Glazing Materials

On January 6, 1977 (42 FR 1427), as amended on June 20, 1977 (42 FR 31164), the Commission issued the Safety Standard for Architectural Glazing Materials under the Consumer Product Safety Act (“CPSA”) to reduce or eliminate risks of injuries associated with walking, running, or falling through or against glazing materials (“CPSC standard”). The standard applies to glazing materials used or intended for use in any of the following architectural products:

(1) Storm doors or combination doors;

(2) Doors (both exterior and interior);

(3) Bathtub doors and enclosures;

(4) Shower doors and enclosures; and

(5) Sliding glass doors (patio-type).

The standard applies to glazing materials and architectural products incorporating glazing materials that are produced or distributed for sale to or for the personal use, consumption or enjoyment of consumers in or around a permanent or temporary household or residence or in recreational, school, public, or other buildings or parts thereof. The standard was codified at 16 CFR part 1201.

The standard exempts certain products, materials, and uses including: Wired glass used in doors or other assemblies to retard the passage of fire where such door or assembly is required by federal, state, local, or municipal fire ordinance; louvers of jalousie doors; and openings of doors through which a 3 inch diameter sphere is unable to pass. Carved glass, dalle glass, or leaded glass, which is used in doors and glazed panels are exempt if the glazing material meets all of the following criteria:

• The coloring, texturing, or other design qualities or components of the glazing material cannot be removed without destroying the material; and

• The primary purpose of such glazing is decorative or artistic; and

• The glazing material is conspicuously colored or textured so as to be plainly visible and plainly identifiable as aesthetic or decorative rather than functional (other than for the purpose of admitting or controlling admission of light components or heat and cold); and

• The glazing material, or assembly into which it is incorporated, is divided into segments by conspicuous and plainly visible lines.

Other exempt materials include glazing materials used as curved glazed panels in revolving doors; and commercial refrigerator cabinet glazed doors. See, 16 CFR 1201.1(c).

On September 27, 1978, (43 FR 43704), the Commission amended the standard to clarify the definitions, description of test apparatus, and test procedures in the standard. The Commission subsequently revoked portions of the standard that prescribed requirements for “glazed panels” (45 FR 67383, August 28, 1980); an accelerated environmental durability test for plastic glazing materials intended for outdoor exposure (45 FR 66002, October 6, 1980); and a modulus of elasticity test, a harness test, and an indoor aging test applicable to plastic glazing materials (47 FR 27853, June 28, 1982). 16 CFR 1201.1(d) n.1. Tempered glass, wired glass, and annealed glass are also exempt from the accelerated environmental durability tests. See, 16 CFR 1201.4(a)(2).

B. Petition

On June 26, 2012, the Commission received a petition from the Safety Glazing Certification Council (“SGCC” or “petitioner”) requesting that the Commission initiate rulemaking to replace the testing procedures for glazing materials in certain architectural products set forth in 16 CFR 1201.4 with the testing procedures contained in the voluntary standard, ANSI Z97.1-2009ε², American National Standard for Safety Glazing Materials Used in Buildings—Safety Performance Specifications and Methods of Test (the ANSI standard). SGCC stated that consumers and the glazing industry would be better served if the test procedures for glazing materials used in architectural products in 16 CFR 1201.4 were replaced with the ANSI standard because the ANSI test procedures are more efficient and modern, having been updated periodically, in contrast to the CPSC standard. On April 9, 2013, the Commission voted to grant the petition.

C. The Proposed Rule

On May 22, 2015, the Commission published a notice of proposed rulemaking (“NPR”) in the Federal Register (80 FR 29555) to amend the Safety Standard for Architectural Glazing Materials (16 CFR part 1201). The NPR proposed to replace the testing procedures for glazing materials in certain architectural products, set forth in 16 CFR 1201.4, with the testing procedures contained in the voluntary standard, ANSI Z97.1-2009ε². The ANSI standard establishes specifications and methods of testing for the safety properties of glazing materials used for building and architectural purposes. The tests for safety glazing materials in the ANSI standard include impact, center punch fragmentation, thermal, weathering, indoor aging, hardness, and modulus tests.

The NPR proposed to replace the CPSC test procedures in 16 CFR 1201.4 with the ANSI Z97.1-2009ε² to clarify the existing test procedures. The clarifications included replacing obsolete ASTM standard references in the CPSC standard, 16 CFR 1201.4(b)(3)(ii), with current references, and replacing the impact test construction drawings in section 16 CFR 1201.4(b), with larger and clearer construction assembly drawings in ANSI Z97.1-2009ε². The NPR also proposed to clarify the method and number of specimens to be impact tested and the procedures for evaluating tempered glass by using a “Center Punch Fragmentation Test,” to provide a more accurate and efficient way of measuring potential failures from impact tests for tempered glass.

ANSI Z97.1-2009ε² provided three impact categories for testing: A 400 foot-pound impact test (Class A); a 150 foot-pound impact test (Class B); and a 100 foot-pound impact test (Class C) for fire-resistant wired glass. The NPR did not propose to modify the impact categories for testing. The CPSC standard provides only two impact categories, 150 foot-pound impact test (Category I) and 400 foot-pound impact test (Category II), 16 CFR 1201.4(d). Accordingly, the NPR proposed to keep the CPSC standard's Category I and Category II test because these tests were the equivalent of the ANSI Class B test and Class A test, respectively. However, the Commission did not propose the Class C test in the ANSI Z97.1-2009ε² standard because it was only applicable to fire-resistant wired glass, a product that is exempt from the CPSC standard.

The Commission explained in the preamble to the NPR that the proposed amendment replacing the test procedures specified in the CPSC mandatory standard with the test procedures in the ANSI Z97.1-2009ε² standard would not involve a material change to the Commission's regulations at 16 CFR part 1201. Under section 9(h) of the CPSA, if an amendment of a consumer product safety rule “involves a material change,” 15 U.S.C. 2058(h), the Commission must make certain findings, including a finding that the amendment is “reasonably necessary to prevent or reduce an unreasonable risk of injury associated with such product”; the expected benefits of the amended rule “bear a reasonable relationship to its costs”; and the amended rule imposes “the least burdensome requirement which prevents or adequately reduces the risk of injury for which the rule is being promulgated.” Id. §§ 2056(a); 2058(a)-(g). If the amendment does not constitute “a material change” for purposes of section 9(h) of the CPSA, the Commission is not required to make the findings that are otherwise required for the amendment of a consumer product safety rule.

The Commission stated that the proposed amendment adopting the ANSI Z97.1-2009ε² test procedures would not involve a material change that would alter the original basic purpose of the CPSC standard to assess the safety of architectural glazing materials because: (1) The ANSI Z97.1-2009ε² test procedures, if adopted, would serve to clarify the existing test procedures and update outdated references to current test methods; (2) the proposed amendment would be unlikely to have an important or significant impact on the safety of consumers because testing to either standard provided consistent and comparable test results; and (3) the ANSI Z97.1-2009ε² test procedures would not impose any additional burdens on the regulated industry and would result in less redundant, more efficient, and less costly testing of the architectural glazing materials.

D. Revised ANSI Standard

When the NPR was published on May 22, 2015, ANSI Z97.1-2009ε², American National Standard for Safety Glazing Materials Used in Buildings—Safety Performance Specifications and Methods of Test was the voluntary standard in effect. In March 2015, a new version of ANSI Z97.1-2015 was approved and published on September 24, 2015. ANSI Z97.1-2015 contains updates to several sections of ANSI Z97.1-2009ε². The most significant update in ANSI Z97.1-2015 is that ANSI Z97.1-2015 removed the Class C impact category (100 ft-lb impact test) for fire-resistant wired glass. ANSI Z97.1-2015 now requires all safety glazing materials, including wired glass, to conform to Class A (400 ft-lb) or Class B (150 ft-lb) impact test requirements.

In addition, ANSI Z97.1-2015 updates references and makes minor organizational and terminology changes. Other clarifications that were made to the test methods in ANSI Z97.1-2015 include the following:

• Removes the need for weathering tests for specimens constructed of laminated, organic coated or plastic glazings if certain criteria are met (4.6);

• specifies that laminated and organic-coated glazing optical measurements may be taken on an unexposed sample (4.6.2);

• specifies the evaluation criteria for shot bag impact procedures for glazing materials (5.1.4);

• clarifies the center punch fragmentation test and procedure on tempered glass specimens (flat glass and bent glass) and interpretation of results on tempered glass specimens and equipment (5.2-5.2.4);

• clarifies the procedure for thermal test for laminated and organic coated glazings (boil testing and bake testing) (5.3-5.3.3); and

• clarifies the procedure for weathering methods for laminated, organic-coated and plastic glazings (5.4-5.4.3).

II. Response to Comments on the Proposed Rule

The Commission received nine comments on the NPR. Commenters include members of the Accredited Standards Committee of ANSI, Advocates for Safe Glass, the Glass Association of North America (“GANA”), Eastman Chemical Company, the SGCC, and SaftiFirst, Inc.

Incorporation by Reference

All of the commenters support substituting the CPSC test procedures in 16 CFR part 1201 with the ANSI standard, if the Commission adopts the more recent ANSI Z97.1-2015 test procedures, rather than ANSI Z97.1-2009ε². Several commenters request that the Commission not adopt a specific year version of the standard, but rather, adopt a more generic phrase, such as “most current version” of the ANSI standard, to ensure that the incorporation by reference always refers to the current version of the ANSI standard, rather than a specific version.

Response

Although we recognize that the ANSI standard will be revised in the future, the Director of the Office of the Federal Register requires that publication of a document containing an incorporation by reference must specify the edition of the publication that is approved. The regulations governing incorporation by reference specifically provide that “[i]ncorporation by reference of a publication is limited to the edition of the publication that is approved. Future amendments or revisions of the publication are not included.” 1 CFR 51.1(f). Accordingly, the Commission cannot issue a rule that mandates “the most current version” of the ANSI standard, but rather, must identify the specific version of the standard. Therefore, the rule incorporates by reference the ANSI Z97.1-2015 version. If a new version is issued in the future, the Commission will consider revising the CPSC standard to refer to the updated ANSI standard at that time.

Class C Fire-Resistant Rated Wire Glass

Many of the commenters state that the ANSI Z97.1-2015 version is an improvement of the ANSI Z97.1-2009ε² standard because the 2015 version eliminates the testing of fire-resistant rated wire glass under a lower Class C impact test procedure. One commenter states that the scope of the materials covered by the CPSC standard is now congruent with ANSI Z97.1-2015 because wired glass is exempt from the CPSC standard. Another commenter states that the wired glass product causes serious and fatal injuries and that CPSC should not expand the scope of the exemption for wired glass by accepting a lower Class C requirement.

Response

The current version of the ANSI standard, ANSI Z97.1-2015, eliminates the testing of fire-resistant wired glass under a lower Class C impact test procedure. The CPSC standard exempts fire-resistant wired glass. The scope of the exemption for the wired glass under 16 CFR 1201.1(c)(1) has always been narrow: First, the wired glass must be used in a door (or other assembly subject to the rule); second, the wired glass must be used “to retard the passage of fire” and third, the particular use of the wired glass must be required by a federal, state, local, or municipal fire ordinance. Thus, the use of wired glass, even in fire doors, is not automatically permitted in all locations or all jurisdictions. Rather, it must be demonstrated that the particular use is required by law for fire safety.

The Commission believes that the architectural glazing industry is evolving and that the industry is developing technology to improve glazing materials so that they can meet the ANSI Z97.1-2015 Class A and Class B impact tests. To give the industry adequate time to comply with the new testing requirements, including fire-resistant wired glass, the Commission will not remove the exemption in the CPSC standard at this time. Accordingly, the Commission will continue to exempt fire-resistant wired glass under the current exemption under the circumstances set forth in 16 CFR 1201.1(c)(1). However, the Commission finds that additional clarification is necessary to reduce confusion regarding the terminology for impact categories used by ANSI and the CPSC. As stated, 16 CFR 1201.4(d) provides two impact categories, 150 foot-pound impact test (Category I) and 400 foot-pound impact test (Category II). ANSI Z97.1-2015 does not use the same terms, but instead, uses terms “Class A” and “Class B” to delineate impact test drop height requirements. Category I products are impact-tested to the drop height requirement applicable to Class B products (18 inches to 18.5 inches), and Category II products are tested to the same height applicable to Class A products (48 inches to 48.5 inches). The Category 1 test is the equivalent to the Class B test (18 inches is 1.5 ft—1.5 ft × 100 lbs = 150 ft-lb), and the Category II test is the equivalent of the Class A test (48 inches is 4 ft—4 ft × 100 lbs = 400 ft-lb). To make sure that the references to the impact tests are consistent, the rule modifies the existing definitions under 16 CFR 1201.2(a)(3) and (4) to add the words “Class B” with “Category I” and “Class A” with “Category II.”

Other Clarifications

Several commenters note that ANSI Z97.1-2015 makes a number of substantive changes to the 2009 edition. The commenters state that, in addition to eliminating the Class C test category, ANSI Z97.1-2015 clarifies provisions in the weathering section (deleting and updating obsolete references and procedures), adds a bake test as an alternative to the boil test for thermal testing of laminated and organic coated glazings, and clarifies glass-shard contaminant for laminated and organic-coated glazings after impact testing.

Response

The Commission finds that the revisions made in ANSI Z97.1-2015 further clarify the ANSI test procedures by specifying the specimens used, and the criteria for when testing is not needed. The weathering tests do not affect the exemptions that are provided under 16 CFR 1201.1 for an accelerated environmental durability test for plastic glazing materials intended for outdoor exposure, as well as a modulus of elasticity test, a harness test, and an indoor aging test applicable to plastic glazing materials. The other changes help clarify language or more clearly set out procedures for testing. For example, the shot bag impact procedure is made clearer by setting forth evaluation criteria to assess the results of impact tests of glazing materials. The procedure for the center punch fragmentation test is made clearer by setting forth the procedure for flat glass separately from bent glass. Similarly, the boil test for laminated glass has been modified to change “boil” to “thermal” to reflect that the test may be conducted by either a heating chamber or boiling water and includes a bake test. These clarifications are consistent with the weathering tests in the CPSC standard under 16 CFR 1201.4(c)(3)(i), but they also add specificity and clarity to the tests. Accordingly, the additional revisions clarifying the test procedures in the ANSI Z97.1-2015 standard would not result in a material change to the testing requirements under 16 CFR 1201.4, because the basic purpose and provisions of the test methods in the standard are consistent with ANSI Z97.1-2015.

III. Impact on Small Businesses

In the NPR, the Commission certified that the proposed rule would not have a significant economic impact on a substantial number for small entities under the Regulatory Flexibility Act (“RFA”). 5 U.S.C. 601-612. The Commission did not receive any comments regarding this certification. For the final rule, the Commission's Directorate for Economic Analysis reviewed the potential economic impact of adopting the updated ANSI Z97.1-2015 test procedures on small entities, including small businesses.

In the NPR, staff's review of the ANSI Z97.1-2009ε² standard showed that adopting the ANSI standard would not have a significant impact on a substantial number of small entities, and that manufacturers who currently test to both the ANSI standard and the CPSC standard will probably experience a cost neutral impact or a decrease in testing and certification costs. 80 FR 29560. Staff's review of the revisions to ANSI Z97.1-2015, and staff's review of the industry after the issuance of the NPR, indicate that the changes to the standard will not impact the testing or certification requirements for the small manufacturers, nor will the revisions change the rates of compliance with the CPSC standard or the ANSI standard.

In the NPR, staff's review showed that of the products certified through SGCC, 99 percent or 1,855 products were certified to both ANSI Z97.1-2009ε² and 16 CFR part 1201. Only 12 products (0.6%) were certified solely to ANSI Z97.1-2009ε², and seven products (0.4%) were certified solely to 16 CFR part 1201. A review of manufacturers from GANA's membership not participating in the SGCC program indicated that of the 35 manufacturers that provided certification information, 32 manufacturers certified their products to both standards, and three manufacturers listed certification to 16 CFR part 1201 only. The NPR noted that of the 104 small domestic manufacturers, 102 certified their products to both standards, while only two certified solely to 16 CFR part 1201. 80 FR 29560.

Since the NPR, staff has reviewed the most recent data. As of November 23, 2015, of the products certified through SGCC, 99 percent or 2,047 products were certified to both the ANSI standard and 16 CFR part 1201. Only 17 products (<1%) were certified solely to the ANSI standard, and no products were certified solely to 16 CFR part 1201. SGCC began testing to ANSI Z97.1-2015 upon publication of the standard, but SGCC did not require labs and manufacturers to conform to the updated testing protocol until January 2016. A review of manufacturers from GANA's membership who are not participating in the SGCC program indicated that of the 36 manufacturers that provided certification information, 34 manufacturers certified their products to both standards, and two manufacturers listed certification to 16 CFR part 1201 only. Regarding the small domestic manufacturers, all claim to certify their products to both standards. Accordingly, the number of products certified to both standards (99%) has remained consistent. The data continue to show that the vast number of products are certified to both standards, and all small domestic manufacturers for which information on certification was available, certify their products to both standards.

The expected impact of the final rule is to reduce the costs of certification for most manufacturers. All identified small manufacturers currently test to both the voluntary standard and the CPSC standard and will probably experience a decrease in testing and certification costs because they only would need to follow one testing protocol to certify to both standards. The number of samples a manufacturer needs to fabricate for testing also will be reduced, thus reducing certification costs. In addition, for manufacturers that contract out their testing, shipping costs will be reduced due to the smaller number of samples shipped. Accordingly, the Commission certifies that this rule will not have significant economic impact on a substantial number of small entities under section 605(b) of the RFA.

IV. Final Rule

After considering the comments, the Commission finds that the ANSI Z97.1-2015 test procedures, if adopted, would further clarify the test procedures that were established in ANSI Z97.1-2009ε². ANSI Z97.1-2015 removed the Class C impact test for fire-resistant wired glass. However, that revision did not result in a material change to the Commission's regulations at 16 CFR part 1201 because fire-resistant wired glass is currently exempt under the Commission regulations, 16 CFR 1201.1(c).

The other clarifications made in the ANSI Z97.1-2015 would not involve a material change that would alter the original basic purpose of the CPSC standard to assess the safety of architectural glazing materials. The revisions made to the ANSI Z97.1-2015 test procedures are consistent with the provisions underlying the CPSC standard and provide consistent and comparable test results. The ANSI Z97.1-2015 test procedures clarify the existing test procedures and update outdated references to current test methods. Adopting the ANSI Z97.1-2015 test procedures will not impose any additional burdens on the regulated industry because almost all of the industry already certifies their products to both the CPSC standard and the ANSI standard. In fact, the Commission finds that adopting the ANSI Z97.1-2015 test procedures will result in more efficient and less costly testing of architectural glazing materials for manufacturers.

Accordingly, the Commission revises 16 CFR 1201.4 to require architectural glazing products to be tested in accordance with all of the applicable test provisions of ANSI Z97.1-2015, except for the exemptions provided in 16 CFR 1201.1(c) and (d). Furthermore, the Commission removes Figures 1 through 5 in Subpart A of Part 1201, which have been replaced in ANSI Z97.1-2015 with larger and clearer drawings.

In addition, to provide clarity regarding the impact test procedures, the Commission is revising the definitions in 16 CFR 1201.2 to align the Category I and Category II impact tests with the Class B and Class A impact tests in ANSI Z97.1-2015. Accordingly, 16 CFR 1201.2(a)(3) and (4) is amended to add “Class B” to Category I and “Class A” to Category II in the definitions.

V. Environmental Considerations

Generally, the Commission's regulations are considered to have little or no potential for affecting the human environment, and environmental assessments and impact statements are not usually required. See 16 CFR 1021.5(a). The Commission does not expect the rule to have any adverse impact on the environment under this categorical exclusion. Moreover, the rule will decrease the number of samples that most manufacturers are required to test, and likely will lead to a small, beneficial effect on the environment because waste produced by the manufacture of excess samples, and the transport of those samples, will be reduced.

VI. Paperwork Reduction Act

This rule would not impose any information collection requirements. Accordingly, this rule is not subject to the Paperwork Reduction Act of 1995 (44 U.S.C. 3501-3520).

VII. Executive Order 12988 (Preemption)

Section 26(a) of the CPSA, 15 U.S.C. 2075(a), provides that when a consumer product safety standard under this Act is in effect and applies to a risk of injury associated with a consumer product, no state or political subdivision of a state may either establish or continue in effect any provision of a safety standard or regulation which prescribes any requirements as to the performance, composition, contents, design, finish, construction, packaging, or labeling of such product, which are designed to deal with the same risk of injury associated with such consumer product, unless such requirements are identical to the requirements of the federal standard. Section 9(h) of the CPSA provides that the Commission may by rule amend any consumer product safety rule. Therefore, the preemption provision of section 26(a) of the CPSA applies to any rule issued under section 9(h).

VIII. Effective Date

The APA generally requires that the effective date of a rule be at least 30 days after publication of a final rule. 5 U.S.C. 553(d). No comments were received on the effective date. Accordingly, the final rule will take effect 30 days after publication of a final rule.

IX. Incorporation by Reference

The OFR has regulations concerning incorporation by reference. 1 CFR part 51. The OFR recently revised these regulations to require that, for a final rule, agencies must discuss, in the preamble of the rule, ways that the materials the agency incorporates by reference are reasonably available to interested persons and how interested parties can obtain the materials. In addition, the preamble to the final rule must summarize the material. 1 CFR 51.5(a).

In accordance with the OFR's requirements, section I of this preamble summarizes the ANSI Z97.1-2015 standard that the Commission incorporates by reference into 16 CFR part 1201. Interested persons may purchase a copy of ANSI Z97.1-2015 from the following address. Attn: ANSI Customer Service Department, 25 W. 43rd Street, 4th Floor, New York, NY 10036. The standard is also available for purchase from ANSI's Web site: http://asc-z97-store.myshopify.com/products/ansi-z97-1-2015-version-clean-copy. A copy of the standard can also be inspected at CPSC's Office of the Secretary, U.S. Consumer Product Safety Commission, Room 820, 4330 East West Highway, Bethesda, MD 20814, telephone 301-504-7923.

List of Subjects in 16 CFR Part 1201

Administrative practice and procedure, Consumer protection, Imports, Incorporation by reference, Labeling, Law enforcement.

For the reasons stated in the preamble, the Commission amends 16 CFR part 1201 as follows:

PART 1201—SAFETY STANDARD FOR ARCHITECTURAL GLAZING MATERIALS

1. The authority citation for part 1201 continues to read as follows:

Authority: Secs. 2, 3, 7, 9, 14, 19. Pub. L. 92-573, 86 Stat. 1212-17; (15 U.S.C. 2051, 2052, 2056, 2058, 2063, 2068)

2. Amend § 1201.2 by revising paragraphs (a)(3) introductory text and (a)(4) introductory text to read as follows:

§ 1201.2 Definitions.

(a) * * *

(3) Category I products (Class B) means any of the following Architectural products:

* * * * *

(4) Category II products (Class A) means any of the following architectural products:

* * * * *

3. Revise § 1201.4 to read as follows:

§ 1201.4 Test procedures.

Except as provided in §§ 1201.1(c) and (d), architectural glazing products shall be tested in accordance with all of the applicable test provisions of ANSI Z97.1-2015 “American National Standard for Safety Glazing Materials Used in Building—Safety Performance Specifications and Methods of Test,” approved March 2015. The Director of the Federal Register approves the incorporation by reference in accordance with 5 U.S.C. 552(a) and 1 CFR part 51. You may obtain a copy from ANSI Customer Service Department, 25 W. 43rd Street, 4th Floor, New York, NY 10036. You may inspect a copy at the Office of the Secretary, U.S. Consumer Product Safety Commission, Room 820, 4330 East West Highway, Bethesda, MD 20814, telephone 301-504-7923, or at the National Archives and Records Administration (NARA). For information on the availability of this material at NARA, call 202-741-6030, or go to: http://www.archives.gov/federal-register/cfr/ibr-locations.html.

Figures 1—5 to Subpart A of Part 1201 [Removed]

4. Remove Figures 1 through 5 to subpart A of part 1201.

Dated: March 18, 2016.
Todd A. Stevenson,
Secretary, Consumer Product Safety Commission.

[FR Doc. 2016-06523 Filed 3-22-16; 8:45 am]

BILLING CODE 6355-01-P